NATIONAL SCIENCE FOUNDATION

Agency Information Collection Activities: National Science Foundation (NSF) Directorate for Technology, Innovation and Partnerships (TIP) Reviewer Request Form

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION:

Title of Collection: National Science Foundation (NSF) Directorate for Technology, Innovation and Partnerships (TIP) Reviewer Request Form.

OMB Control No.: 3145-New.

Abstract: NSF has advanced the full spectrum of fundamental research and education in all fields of science, technology, engineering and mathematics, or STEM, for more than 70 years—from foundational, curiosity-driven research that has led to new knowledge about our world, to use-inspired, solution-oriented research that has directly impacted people's everyday lives. At every stage, investments across this spectrum have been deeply intertwined.

NSF's Directorate for Technology, Innovation, and Partnerships (TIP) doubles down on the agency's commitment to support use-inspired research and the translation of research results to the market and society. In doing so, the new directorate strengthens the intense interplay between foundational and use-inspired work, enhancing the full cycle of discovery and innovation. This is best illustrated through the programs within the TIP Directorate portfolio—America's Seed Fund, Convergence Accelerator, Innovation Corps (I-Corps), Partnerships for Innovation, Pathways to Enable Open-Source Ecosystems, and Regional Innovation Engines—all reflect and represent the various phases of the technology transition/translation spectrum, while accentuating the core theme of use-inspired and solution-oriented research.

Due to the specialized nature of these programs, it is necessary for the TIP Directorate to refine its reviewer recruitment efforts and reach out to individuals that have the adequate and appropriate combinations of expertise and experience to serve as proposal reviewers for these programs. To recruit cognizant reviewers that have the set of unique skills and credentials—ones that meet and align well with the needs of these programs, the NSF TIP Directorate requests the Office of Management and Budget (OMB) approval of a customizable, directorate-wide Reviewer Request Form to collect information that is germane and bespoke to each program within the TIP Directorate.

There are two parts to the Form. The first part is similar to the agency-wide Reviewer Request Form (NSF 428A), in that information pertaining to the individual's name, contact information, demographics, education level, and professional experience will be asked. The second part will vary based on the program, as some programs in TIP are more topically-driven, and/or theme-focused than others. The information collected on the second part encompasses, but is not limited to, the following areas: type of employing institutions, areas of expertise, provision of the individual's LinkedIn or professional web page, and potential conflict of interests. Such data collection will enable the Program Directors to better assess whether the combination of experience, expertise, and skills of the interested individuals are adequate and well-suited to help the programs to evaluate proposals through the merit review criteria as set forth by the agency and the National Science Board. (For more information on NSF merit review principles and criteria, please consult the NSF Proposal & Award Policies & Procedures Guides (PAPPG), Chapter III.A.)

Following standard OMB requirements, NSF will require OMB approval in advance and provide OMB with a copy of the form containing these questions and/or data fields. Data collected will be used strictly for reviewer recruiting purposes. The data collection burden to the individuals will be limited to no more than 10 minutes of the respondents' time in each instance.

Respondents: The respondents generally have the education and/or experience level commensurate to a university assistant professor.

Estimated Number of Annual Respondents: 5,000.

Burden on the Public: The respondents of the NSF TIP Reviewer Request Form, albeit with varying education level and professional experience, are generally doctorate degree holders. According to a study conducted by U.S. Bureau of Labor Statistics in 2021, the median income for doctorate degree holders was around $99,268 (“Education pays, 2021,” Career Outlook, U.S. Bureau of Labor Statistics, May 2022). Using that as the basis for the calculation—divide that median income by the number of standard annual work hours (2,080), which calculates to approximately $48 per hour, the annualized estimate of cost to the respondents is around $40,000 per year.

Respondent type | Number of respondents | Burden hours per respondent | Average hourly rate | Estimated annual cost
PIs | 5,000 | 0.167 | $48 | $40,000
Total |  | 835 |  | 40,000

Dated: March 14, 2023.
Suzanne H. Plimpton,
Reports Clearance Officer, National Science Foundation.

[FR Doc. 2023-05560 Filed 3-17-23; 8:45 am]

BILLING CODE 7555-01-P